DEPARTMENT OF LABOR

Employment and Training Administration

[TA-W-71,202]

Sappi Fine Paper N.S., a Subsidiary of Sappi Ltd., Including On-Site Leased Workers From ABB, Inc., Storeroom Solutions, Schneider Trucking, Sonoco Co. and Foreway Trucking, Muskegon, MI; Amended Certification Regarding Eligibility To Apply for Worker Adjustment Assistance

In accordance with Section 223 of the Trade Act of 1974, as amended (“Act”), 19 U.S.C. 2273, the Department of Labor issued a Certification of Eligibility To Apply for Worker Adjustment Assistance on June 19, 2009, applicable to workers of Sappi Fine Paper N.A., a subsidiary of Sappi Ltd., including on-site leased workers from ABB, Inc., Muskegon, Michigan. The notice was published in the Federal Register September 2, 2009 (74 FR 45477).

At the request of the State Agency, the Department reviewed the certification for workers of the subject firm. The workers are engaged in activities related to the production of fine coated paper.

The company reports that on-site leased workers from Storeroom Solutions, Schneider Trucking, Sonoco Co., and Foreway Trucking were employed on-site at the Muskegon, Michigan location of Sappi Fine Paper N.A., a subsidiary of Sappi Ltd. The Department has determined that these workers were sufficiently under the control of the subject firm to be considered leased workers.

Based on these findings, the Department is amending this certification to include workers leased from Storeroom Solutions, Schneider Trucking, Sonoco Co. and Foreway Trucking working on-site at the Muskegon, Michigan location of Sappi Fine Paper N.A., a subsidiary of Sappi Ltd.

The amended notice applicable to TA-W-71,202 is hereby issued as follows:

All workers of Sappi Fine Paper N.A., a subsidiary of Sappi Ltd., including on-site leased workers from ABB, Inc., Storeroom Solutions, Schneider Trucking, Sonoco Co. and Foreway Trucking, Muskegon, Michigan, who became totally or partially separated from employment on or after June 12, 2008, through July 22, 2011, and all workers in the group threatened with total or partial separation from employment on date of certification through two years from the date of certification, are eligible to apply for adjustment assistance under Chapter 2 of Title II of the Trade Act of 1974, as amended.

Signed at Washington, DC, this 22nd day of September 2009.
Elliott S. Kushner,
Certifying Officer, Division of Trade Adjustment Assistance.

[FR Doc. E9-23901 Filed 10-2-09; 8:45 am]

BILLING CODE 4510-FN-P